DEPARTMENT OF HEALTH AND HUMAN SERVICES

Administration for Community Living

[OMB Control No. 0985-0029]

Agency Information Collection Activities: Proposed Collection; Public Comment Request of the State Councils on Developmental Disabilities (Councils) State Plan

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This Information Collection (IC) Revision solicits comments on the information collection requirements relating to the Developmental Disabilities State Plan OMB control number 0985-0029.

DATES: Comments on the collection of information must be submitted electronically by 11:59 p.m. (EST) or postmarked by January 30, 2023.

ADDRESSES: Submit comments on the collection of information via email to Sara.Newell-Perez@acl.hhs.gov or to Administration for Community Living, 330 C Street SW, Washington, DC 20201, Attention: Sara Newell-Perez.

FOR FURTHER INFORMATION CONTACT: Sara Newell-Perez, 202-795-7413 or Sara.Newell-Perez@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The State Councils on Developmental Disabilities (Councils) are authorized in Subtitle B, of the Developmental Disabilities Assistance and Bill of Rights Act of 2000 (DD Act), as amended, [42 U.S.C. 15001 et seq.] (The DD Act). The DD Act requires Councils to submit a five-year State plan. Section 124(a) [42 U.S.C. 15024(a)], states that: Any State desiring to receive assistance under this subtitle shall submit to the Secretary, and obtain approval of, a 5-year strategic State plan under this section. The DD Act regulations outlines additional guiding requirements in 45 CFR part 1326.30(a), which states that: In order to receive Federal financial assistance under this subpart, each State Developmental Disabilities Council must prepare and submit to the Secretary, and have in effect, a State plan which meets the requirements of sections 122 and 124 of the Act (42 U.S.C. 6022 and 6024) and these regulations.

The Council is responsible for the development, and submission of the State plan as well as implementation of the activities described in the plan. The Council updates the Sate plan annually during the five years. The State plan provides information on individuals with developmental disabilities in the State, and a description of the services available to them and their families. The State plan sets forth the goals and specific objectives to be achieved by the State Council in pursuing systems change and capacity building that result in empowering people with developmental disabilities to lead independent lives within the community. It describes State priorities, strategies, and actions, and the allocation of funds to meet these goals and objectives. Additionally, the data collected in the State plan and submitted to ACL is also used to comply with the GPRA Modernization Act of 2010 (GPRAMA).

The State Plan is used in three ways. First, it provides a framework for citizens, State governments, and other key stakeholder to provide input and comments to help shape the goals and objectives during the development stage. Secondly, it is used by each Council as a planning document to operationalize its goals and strategies. Finally, it provides information the Department needs for monitoring and providing technical assistance to ensure the Council is compliant.

This is a revision of a currently approved information collect that expires March 30, 2023. To ensure the DD Council State plan is consistent with the Executive Order on Advancing Racial Equity and Support for Underserved Communities Through the Federal Government and the Executive Order on Advancing Equality for Lesbian, Gay, Bisexual, Transgender, Queer, and Intersex Individuals, ACL intends to determine whether sexual orientation and gender identity (SOGI) data elements need to be adapted prior to adding them to ensure accessibility of the questions for individuals with intellectual and developmental disabilities.

The proposed data collection tool may be found on the ACL website for review at: https://www.acl.gov/about-acl/public-input.

Estimated Program Burden: ACL estimates the burden of this collection of information as follows:

Respondent/data collection activity | Number of respondents | Responses per respondent | Hours per response | Total annual burden hours
State Councils on Developmental Disabilities State plan | 56 | 1 | 367 | 20,522
Total | 56 | 1 | 367 | 20,522

Dated: November 23, 2022.
Alison Barkoff,
Acting Administrator and Assistant Secretary for Aging.

[FR Doc. 2022-26077 Filed 11-29-22; 8:45 am]

BILLING CODE 4154-01-P